DEPARTMENT OF HOUSING AND URBAN DEVELOPMENT

[Docket No. FR-5310-N-01]

Conference Call Meeting of the Manufactured Housing Consensus Committee

AGENCY: Office of the Assistant Secretary for Housing—Federal Housing Commissioner, HUD.

ACTION: Notice of upcoming meeting via conference call.

SUMMARY: This notice sets forth the schedule and proposed agenda of an upcoming meeting of the Manufactured Housing Consensus Committee (the Committee) to be held via telephone conference. This meeting is open to the general public, which may participate by following the instructions below.

DATES: The conference call meeting will be held on Tuesday, April 7, 2009, from 11 a.m. to 2 p.m. eastern daylight time.

ADDRESSES: Information concerning the conference call can be obtained from the Department's Consensus Committee Administering Organization, the National Fire Protection Association (NFPA). Interested parties can link onto the NFPA Web site for instructions concerning how to participate, and for contact information for the conference call, in the section marked “Highlights” “Manufactured Housing Consensus Committee Information” “Administering Organization”. The link can be found at: http://www.hud.gov/offices/hsg/sfh/mhs/mhshome.cfm. Alternately, interested parties may contact Jill McGovern of NFPA at (617) 984-7404 (this is not a toll-free number) for conference call information.

FOR FURTHER INFORMATION CONTACT: William W. Matchneer III, Associate Deputy Assistant Secretary, Office of Regulatory Affairs and Manufactured Housing, Department of Housing and Urban Development, 451 7th Street SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with Sections 10(a) and (b) of the Federal Advisory Committee Act (5 U.S.C. App. 2) and 41 CFR 102-3.150. The Manufactured Housing Consensus Committee was established under Section 604(a)(3) of the National Manufactured Housing Construction and Safety Standards Act of 1974, as amended, 42 U.S.C. 5403(a)(3). The Committee is charged with providing recommendations to the Secretary to adopt, revise, and interpret manufactured home construction and safety standards and procedural and enforcement regulations, and with developing and recommending proposed model installation standards to the Secretary.

The purpose of this conference call meeting is for the Committee to review and provide comments to the Secretary on a draft proposed rule for the On-Site Completion of Construction of Manufactured Homes.

Tentative Agenda

A. Roll Call.

B. Welcome and opening remarks.

C. Public testimony.

D. Full committee meeting and take actions on:

1. Ground anchor galvanization requirement.

2. Proposed bylaw changes.

3. Duct testing proposal.

4. Carbon monoxide detectors.

E. Adjournment.

Dated: March 18, 2009.
Brian D. Montgomery,
Assistant Secretary for Housing, Federal Housing Commissioner.

[FR Doc. E9-6482 Filed 3-24-09; 8:45 am]

BILLING CODE 4210-67-P